DEPARTMENT OF HOUSING AND URBAN DEVELOPMENT

[Docket No. FR-4837-D-51]

Delegation of Authority for Multifamily Housing Mortgage and Assistance Restructuring

AGENCY: Office of the Secretary, HUD.

ACTION: Notice of Delegation of Authority.

SUMMARY: Effective October 1, 2004, the Secretary is delegating authority and responsibilities to the Assistant Secretary for Housing-Federal Housing Commissioner that were previously administered by the Director of HUD's Office of Multifamily Housing Assistance Restructuring (OMHAR).

EFFECTIVE DATE: October 1, 2004.

FOR FURTHER INFORMATION CONTACT: Eliot C. Horowitz, Senior Advisor to the Assistant Secretary for Housing—Federal Housing Commissioner, Office of Housing, Department of Housing and Urban Development, Room 9110, Washington, DC 20410-8000, telephone (202) 708-0614. (This is not a toll-free number.) Persons with hearing or speech impairment may call HUD's toll-free Federal Information Relay Service at (800) 877-8339.

SUPPLEMENTARY INFORMATION:

I. Discussion of Delegation of Authority

OMHAR was established under the Multifamily Assisted Housing Reform and Affordability Act (Title V of Public Law 105-65, approved October 27, 1997), 42 U.S.C. 1437 (MAHRA). On January 10, 2002, the President signed the Mark-to-Market Extension Act of 2001 (Title VI of Public Law 107-116), amending various programmatic and administrative provisions of MAHRA. MAHRA provides the Department with tools enabling it to restructure the mortgage financing of eligible Secretary-held or HUD-insured projects that receive project-based assistance where necessary to extend their long-term viability. The restructuring program is referred to as the Mark-to-Market program as it is designed to make the rents charged by an insured, assisted project commensurate with prevailing rents in the locality. Recognizing that some projects with above market rents might be unable to maintain economic viability if their rents were brought down to market, the legislation allows HUD to restructure a project's mortgage financing, if necessary. This enables HUD to preserve low-income housing, while the federal government saves money by reducing rent subsidies.

Section 579 of MAHRA states that OMHAR and the position of the Director of OMHAR terminate on September 30, 2004. However, section 579 provides further that on and after October 1, 2004, (1) the Department will continue to engage in restructuring activities previously administered by OMHAR through September 30, 2006, and thereafter, with respect to projects and programs for which binding commitments have been entered into prior to October 1, 2006, and (2) OMHAR's pertinent authority and responsibilities are transferred to the Secretary.

Specifically, section 579 states that subtitle A of MAHRA (titled FHA Insured Multifamily Housing Mortgage and Housing Assistance Restructuring), except for section 524 (titled Renewal of Expiring Project-Based Section 8 Contracts) is repealed effective October 1, 2006. An exception to this repeal allows HUD to continue to apply the provisions of subtitle A “with respect to projects and programs for which binding commitments have been entered into under this Act before October 1, 2006.” Accordingly, although MAHRA terminates OMHAR at the end of September 30, 2004, HUD's authorization to restructure mortgages will continue for a period of at least two years beyond that date.

Effective October 1, 2004, the Secretary is delegating this authority and attendant responsibilities to the Assistant Secretary for Housing-Federal Housing Commissioner. The Assistant Secretary for Housing-Federal Housing Commissioner has been overseeing the operations of OMHAR since January of 2002, when a new section 578 (titled Oversight by Federal Housing Commissioner) was included among the amendments to MAHRA. This oversight authority terminates on September 30, 2004, the same date upon which OMHAR is terminated. Upon the termination of OMHAR, responsibility for the actual conduct of the mark-to-market program will rest with the Assistant Secretary for Housing-Federal Housing, who is authorized to redelegate this authority.

II. Authority Delegated

The Assistant Secretary for Housing-Federal Housing Commissioner is delegated the power and authority of the Secretary of HUD to carry out the provisions of MAHRA, 42 U.S.C. 1437f note, and to redelegate such authority.

This delegation supersedes and revokes all authority previously delegated to the Director of OMHAR.

Authority: Section 7(d) of the Department of Housing and Urban Development Act (42 U.S.C. 3535(d)).

Dated: October 7, 2004.
Alphonso Jackson,
Secretary.

[FR Doc. 04-23697 Filed 10-21-04; 8:45 am]

BILLING CODE 4210-32-P